DEPARTMENT OF ENERGY

[Docket No. EA-98-G]

Application To Amend Electricity Export Authorization; Western Systems Power Pool

AGENCY: Office of Fossil Energy, DOE.

ACTION: Notice of application.

SUMMARY: The Western Systems Power Pool (“WSPP”) has filed an application on behalf of a member to amend its electricity export authorization issued September 5, 1996, in Order EA-98-C. The application requests that one new member of WSPP be authorized to export electricity to Canada. The application also requests expedited consideration.

DATES: Comments, protests or requests to intervene must be submitted on or before September 5, 2000.

ADDRESSES: Comments, protests or requests to intervene should be addressed as follows: Office of Coal & Power Im/Ex (FE-27), Office of Coal & Power, Office of Fossil Energy, Department of Energy, 1000 Independence Avenue, SW., Washington, DC 20585 (FAX 202-287-5736).

FOR FURTHER INFORMATION CONTACT: Steven Mintz (Program Office) 202-586-9506 or Michael Skinker (Program Attorney) 202-586-6667.

SUPPLEMENTARY INFORMATION: Exports of electricity from the United States to a foreign country are regulated and require authorization under section 202(e) of the Federal Power Act (FPA) (16 U.S.C. Sec. 824a(e)).

On September 5, 1996, in Docket EA-98-C, the Office of Fossil Energy (FE) of the Department of Energy (DOE) authorized 42 members of the WSPP to export electric energy to Canada. On March 24, 1997, and again on May 5, 1997, FE amended the authorization issued to WSPP to add additional members. The facilities utilized for these exports are the international transmission facilities owned and operated by the Bonneville Power Administration (BPA), also a WSPP member. The facilities consist of two 500-kV transmission lines at Blaine, Washington, and one 230-kV transmission line at Nelway, British Columbia, that interconnect with facilities of BC Hydro, and one 230-kV line, also at Nelway, connecting to West Kootenay Power, Limited. The construction and operation of these international transmission facilities was previously authorized by Presidential Permits PP-10, PP-46, and PP-36, respectively.

On August 3, 2000, WSPP submitted an application to amend the export authorization by adding one new member company to the list of authorized electricity exporters. The new member is Candela Energy Corporation (Candela). In addition, WSPP requests expedited treatment of the application to allow Candela to begin transacting business under the authorization as quickly as possible.

Procedural Matters: Any persons desiring to become a party to this proceeding or to be heard by filing comments or protests to this application should file a petition to intervene, comment or protest at the address provided above in accordance with Secs. 385.211 or 385.214 of the FERC's Rules of Practice and Procedures (18 CFR 385.211, 385.214). Fifteen copies of such petitions and protests should be filed with the DOE on or before the date listed above. Additional copies are to be filed directly with: Michael E. Small, Esq., Wright & Talisman, P.C., 1200 G Street, Suite 600, Washington, D.C. 20005.

DOE has granted WSPP's request for expedited treatment of its application and has reduced the normal 30-day public comment period to 15 days.

A final decision will be made on this application after the environmental impacts have been evaluated pursuant to the National Environmental Policy Act of 1969 and a determination is made by the DOE that the proposed action will not adversely impact on the reliability of the U.S. electric power supply system.

Copies of this application will be made available, upon request, for public inspection and copying at the address provided above.

Issued in Washington, DC, on August 14, 2000.
Anthony J. Como,
Deputy Director, Electric Power Regulation, Office of Coal & Power Im/Ex, Office of Coal & Power Systems, Office of Fossil Energy.

[FR Doc. 00-21122 Filed 8-17-00; 8:45 am]

BILLING CODE 6450-01-P